MERIT SYSTEMS PROTECTION BOARD

The Merit Systems Protection Board (MSPB) is Providing Notice of the Opportunity to File Amicus Briefs in the Matters of Conyers v. Department of Defense, Docket No. CH-0752-09-0925-I-1, and Northover v. Department of Defense, Docket No. AT-0752-10-0184-I-1

AGENCY: Merit Systems Protection Board.

ACTION: Notice.

SUMMARY: On January 25, 2010, the MSPB published in the Federal Register (see 75 FR 3939) a Notice of the opportunity to file amicus briefs in the matter of Crumpler v. Department of Defense, MSPB Docket Number DC-0752-09-0033-R-1, 2009 MSPB 233. Although the Crumpler case is now settled, the legal issue raised in that matter and noted in the January 25 Federal Register notice remains unresolved. The cases of Conyers v. Department of Defense, Docket No. CH-0752-09-0925-I-1, and Northover v. Department of Defense, Docket No. AT-0752-10-0184-I-1, involve the same legal issue.

Conyers and Northover raise the question of whether, pursuant to 5 CFR Part 732, National Security Position, the rule in Department of the Navy v. Egan, 484 U.S. 518, 530-31 (1988), limiting the scope of MSPB review of an adverse action based on the revocation of a security clearance also applies to an adverse action involving an employee in a “non-critical sensitive” position due to the employee having been denied continued eligibility for employment in a sensitive position.

Interested parties may submit amicus briefs or other comments on this issue no later than March 1, 2010. Amicus briefs must be filed with the Clerk of the Board. Briefs shall not exceed 15 pages in length. The text shall be double-spaced, except for quotations and footnotes, and the briefs shall be on 8½; by 11 inch paper with one inch margins on all four sides.

DATES: All briefs submitted in response to this notice shall be filed with the Clerk of the Board on or before March 1, 2010.

ADDRESSES: All briefs shall be entitled “Amicus Brief, Conyers and Northover.” Only one copy of the brief need be submitted. Briefs must be filed with the Office of the Clerk of the Board, Merit Systems Protection Board, 1615 M Street, NW., Washington, DC 20419.

FOR FURTHER INFORMATION CONTACT: Matthew Shannon, Deputy Clerk of the Board, (202) 653-7200.

Dated: February 4, 2010.
William D. Spencer,
Clerk of the Board.

[FR Doc. 2010-2890 Filed 2-9-10; 8:45 am]

BILLING CODE 7400-01-P